DEPARTMENT OF THE INTERIOR

National Park Service

Notice of Inventory Completion: U.S. Department of the Interior, Bureau of Indian Affairs, Washington, DC, and Arizona State Museum, University of Arizona, Tucson, AZ

AGENCY: National Park Service, Interior.

ACTION: Notice.

Notice is here given in accordance with the Native American Graves Protection and Repatriation Act (NAGPRA), 25 U.S.C. 3003, of the completion of an inventory of human remains and associated funerary objects in the control of the U.S. Department of the Interior, Bureau of Indian Affairs, Washington, DC, and in the physical custody of the Arizona State Museum, University of Arizona, Tucson, AZ. The human remains and associated funerary objects were removed from sites within the boundaries of the Gila River Indian Reservation, Pinal County, AZ.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Arizona State Museum professional staff and Bureau of Indian Affairs professional staff in consultation with representatives of the Ak Chin Indian Community of the Maricopa (Ak Chin) Indian Reservation, Arizona; Gila River Indian Community of the Gila River Indian Reservation, Arizona; Hopi Tribe of Arizona; Salt River Pima¯Maricopa Indian Community of the Salt River Reservation, Arizona; Tohono O'odham Nation of Arizona; and Zuni Tribe of the Zuni Reservation, New Mexico. The Zuni Tribe has withdrawn from this consultation. The Gila River Indian Community of the Gila River Indian Reservation, Arizona is acting on behalf of the Ak Chin Indian Community of the Maricopa (Ak Chin) Indian Reservation, Arizona; Salt River Pima¯Maricopa Indian Community of the Salt River Reservation, Arizona; and Tohono O'odham Nation of Arizona; and themselves.

In September 1964, human remains representing one individual were collected from the surface of the Snaketown site (AZ:U:13:1 ASM) on the Gila River Indian Reservation, Pinal County, AZ, by F.V. Crane. No known individual was identified. The five associated funerary objects are three sherds and two lithic artifacts. Other human remains and associated funerary objects from this site were published in a notice of inventory completion in the Federal Register on December 29, 2000, pages 83079¯81, FR Doc. 00¯33272.

Mr. Crane removed the human remains and associated funerary objects from the Snaketown site and donated them, with M.W.A. Crane, to the Denver Museum of Natural History in 1983. In July 2002, officials from the Bureau of Indian Affairs transferred custody of the human remains and associated funerary objects to the Arizona State Museum.

The archeological evidence, including characteristics of portable material culture, attributes of ceramic styles, domestic and ritual architecture, site organization, and canal-based agriculture of the settlement, places the Snaketown site within the archeologically¯defined Hohokam tradition and within the Phoenix Basin local variant of that tradition. The occupation of the Snaketown site spans the years circa A.D. 500/700¯1100/1150.

At an unknown date between 1931 and 1934, human remains representing one individual were removed from a cremation feature at an unknown site in the vicinity of Sacaton (AZ U:14:¯¯) area, Gila River Indian Reservation, Pinal County, AZ, by Carl A. Moosberg. No known individual was identified. The one associated funerary object is a Sacaton Red¯on¯buff jar in which the remains had been placed subsequent to cremation. The vessel and the human remains were donated to the Arizona State Museum by Carl A. Moosberg in 1935. In 1953, the vessel and the remains were sent to the Denver Museum of Natural History as part of an exchange. In July 2002, officials from the Bureau of Indian Affairs transferred custody of the human remains and the vessel back to the Arizona State Museum.

Based on characteristics of the mortuary pattern and the attributes of the ceramic style, this burial has been identified as being associated with the Sedentary Phase of the Hohokam archeological tradition, which spanned the years circa A.D. 950¯1150.

Continuities of mortuary practices, ethnographic materials, and technology indicate affiliation of Hohokam settlements with present¯day O'odham (Piman), Pee Posh (Maricopa), and Puebloan cultures. Oral traditions documented for the Ak Chin Indian Community of the Maricopa (Ak Chin) Indian Reservation, Arizona; Gila River Indian Community of the Gila River Indian Reservation, Arizona; Hopi Tribe of Arizona; Salt River Pima¯Maricopa Indian Community of the Salt River Reservation, Arizona; Tohono O'odham Nation of Arizona; and Zuni Tribe of the Zuni Reservation, New Mexico support affiliation with Hohokam sites in central Arizona.

Officials of the Bureau of Indian Affairs and Arizona State Museum have determined that, pursuant to 25 U.S.C. 3001 (9¯10), the human remains described above represent the physical remains of two individuals of Native American ancestry. Officials of the Bureau of Indian Affairs and Arizona State Museum also have determined that, pursuant to 25 U.S.C. 3001 (3)(A), the six cultural items described above are reasonably believed to have been placed with or near individual human remains at the time of death or later as part of the death rite or ceremony. Lastly, officials of the Bureau of Indian Affairs and Arizona State Museum have determined that, pursuant to 25 U.S.C. 3001 (2), there is a relationship of shared group identity that can be reasonably traced between the Native American human remains and associated funerary objects and the Ak Chin Indian Community of the Maricopa (Ak Chin) Indian Reservation, Arizona; Gila River Indian Community of the Gila River Indian Reservation, Arizona; Hopi Tribe of Arizona; Salt River Pima¯Maricopa Indian Community of the Salt River Reservation, Arizona; Tohono O'odham Nation of Arizona; and Zuni Tribe of the Zuni Reservation, New Mexico.

Representatives of any other Indian tribe that believes itself to be culturally affiliated with the human remains and associated funerary objects should contact John Madsen, Repatriation Coordinator, Arizona State Museum, University of Arizona, Tucson, AZ 85721, telephone (520) 621¯4795, before January 21, 2005. Repatriation of the human remains and associated funerary objects to the Ak Chin Indian Community of the Maricopa (Ak Chin) Indian Reservation, Arizona; Gila River Indian Community of the Gila River Indian Reservation, Arizona; Hopi Tribe of Arizona; Salt River Pima¯Maricopa Indian Community of the Salt River Reservation, Arizona; Tohono O'odham Nation of Arizona; and Zuni Tribe of the Zuni Reservation, New Mexico may proceed after that date if no additional claimants come forward.

The Arizona State Museum is responsible for notifying the Ak Chin Indian Community of the Maricopa (Ak Chin) Indian Reservation, Arizona; Gila River Indian Community of the Gila River Indian Reservation, Arizona; Hopi Tribe of Arizona; Salt River Pima¯Maricopa Indian Community of the Salt River Reservation, Arizona; Tohono O'odham Nation of Arizona; and Zuni Tribe of the Zuni Reservation, New Mexico that this notice has been published.

Dated: November 16, 2004

Sherry Hutt,

Manager, National NAGPRA Program.

[FR Doc. 04-28000 Filed 12-21-04; 8:45 am]

BILLING CODE 4312-50-S